DEPARTMENT OF COMMERCE

National Oceanic and Atmospheric Administration

50 CFR Part 300

[Docket No. 130123063-3423-03]

RIN 0648-BC75

Pacific Halibut Fisheries; Catch Sharing Plan; Correcting Amendment

AGENCY: National Marine Fisheries Service (NMFS), National Oceanic and Atmospheric Administration (NOAA), Commerce.

ACTION: Final rule; correcting amendment.

SUMMARY: This action corrects the text of a final rule published on March 15, 2013, that implemented annual management measures governing the Pacific halibut fishery. This final rule established season dates off of Alaska, Washington, Oregon and California. This action is necessary to correct an error in the days of the week listed for the fishing season in the area from Leadbetter Point, WA to Cape Falcon, OR.

DATES: Effective May 8, 2013.

FOR FURTHER INFORMATION CONTACT: Sarah Williams, 206-526-4646.

SUPPLEMENTARY INFORMATION: A final rule published March 15, 2013 (78 FR 16423), included annual management measures for managing the harvest of Pacific halibut (Hippoglossus stenolepis) in the sport fishery in International Pacific Halibut Commission (IPHC) Regulatory Area 2A off of Washington, Oregon and California. This correcting amendment revises the season days of the week in the area from Leadbetter Point, WA to Cape Falcon, OR.

Need for Correction

The final rule (78 FR 16423), Section 26, Sport Fishing for Halibut Area 2A, describes dates and days of the week for sport fishing for halibut off Washington, Oregon, and California. For the area from Leadbetter Point, WA to Cape Falcon, OR the days of the week for the season from May 3 to July 28 were listed as Thursday, Friday, Saturday and should have been listed as Friday through Sunday. Friday through Sunday is consistent with the 2013 Pacific Fishery Management Council's Catch Sharing Plan which describes the structure of the fishery and the proposed rule (78 FR 9660). The incorrect days of the week were inadvertently included in the final rule. “Thursday, Friday, Saturday” is corrected to read “Friday through Sunday” in the corrected text set out below.

On page 16435, paragraph (8)(d)(i), in the third column, is corrected to read as follows:

(i) The fishing season commences on May 3, and continues 3 days a week (Friday through Sunday) until 9,516 lb (4.3 mt) are estimated to have been taken and the season is closed by the Commission or until July 28, whichever is earlier. The fishery will reopen on August 2 and continue 3 days a week (Friday through Sunday) until 2,379 lb (1.1 mt) have been taken and the season is closed by the Commission, or until September 30, whichever is earlier. Subsequent to this closure, if there is insufficient quota remaining in the Columbia River subarea for another fishing day, then any remaining quota may be transferred in-season to another Washington and/or Oregon subarea by NMFS via an update to the recreational halibut hotline. Any remaining quota would be transferred to each state in proportion to its contribution.

Classification

Pursuant to 5 U.S.C. 553(b)(B), the Acting Assistant Administrator for Fisheries finds there is good cause to waive prior notice and an opportunity for public comment on this action, as notice and comment would be unnecessary and contrary to public interest. Notice and comment are unnecessary and contrary to the public interest because this action corrects an inadvertent error in regulations for a fishery that commences on May 3, and immediate notice of the error and correction is necessary to prevent confusion among participants in the fishery that could result from the existing conflict between the Catch Sharing Plan and proposed rule, and the final rule. In addition, this action makes only minor changes to the dates of the fishery and does not alter the total number of days the fishery will be open. These corrections will not affect the results of analyses conducted to support management decisions in the halibut fishery nor change the total catch of halibut. No change in operating practices in the fishery is required. For the same reasons, the Acting AA has determined that good cause exists to waive the 30-day delay in effectiveness pursuant to 5 U.S.C. 553(d).

This final rule complies with the Halibut Act and the Pacific Fishery Management Council's authority to implement allocation measures for the management of the halibut fishery.

Authority: 16 U.S.C. 773 et seq.

Dated: May 2, 2013.
Alan D. Risenhoover,
Director, Office of Sustainable Fisheries, performing the functions and duties of the Deputy Assistant Administrator for Regulatory Programs, National Marine Fisheries Service.

[FR Doc. 2013-10933 Filed 5-3-13; 4:15 pm]

BILLING CODE 3510-22-P